DEPARTMENT OF AGRICULTURE

Office of the Secretary

USDA Increases the Domestic Sugar Overall Allotment Quantity, Reassigns Domestic Cane Sugar Allotments, and Increases the Fiscal Year 2011 Raw Sugar Tariff-Rate Quota

AGENCY: Office of the Secretary, USDA.

ACTION: Notice.

SUMMARY: The Secretary of Agriculture today announced an increase in the domestic sugar Overall Allotment Quantity (OAQ); a reassignment of surplus sugar under domestic cane sugar allotments of 120,000 short tons raw value (STRV) to imports; and an increase in the fiscal year (FY) 2011 raw sugar tariff-rate quota (TRQ) of the same amount.

DATES: Effective: June 22, 2011.

FOR FURTHER INFORMATION CONTACT: Angel F. Gonzalez, Import Policies and Export Reporting Division, Foreign Agricultural Service, AgStop 1021, U.S. Department of Agriculture, Washington, DC 20250-1021; or by telephone (202) 720-2916; or by fax to (202) 720-0876; or by e-mail to angel.f.gonzalez@fas.usda.gov.

SUPPLEMENTARY INFORMATION: USDA's Commodity Credit Corporation (CCC) today announces an increase in the FY 2011 (October 1, 2010-September 30, 2011) OAQ under the Sugar Marketing Allotment Program to 9,400,000 STRV and a reassignment of surplus cane sugar allotment to imports. The OAQ was increased due to an increase in estimated sugar demand since the FY 2011 OAQ was established in August 2010. The beet sugar allotment is now 5,108,900 STRV, and the cane sugar allotment is 3,366,100 STRV. The FY 2011 cane sector allotment and cane state allotments after the OAQ increase were larger than could be fulfilled by domestically-produced cane sugar; so the surplus was reassigned to raw sugar imports, as required by law. Upon review of the domestic sugarcane processors' sugar marketing allocations relative to their FY 2011 expected raw sugar supplies, CCC determined that all sugarcane processors had surplus allocation. Therefore, all sugarcane states' sugar marketing allotments are reduced with this reassignment. The new cane state allotments are Florida, 1,464,666 STRV; Louisiana, 1,526,050 STRV; Texas, 147,138 STRV; and Hawaii, 228,246 STRV. The FY 2011 sugar marketing allotment program will not prevent any domestic sugarcane processors from marketing all of their FY 2011 sugar supply.

On August 5, 2010, USDA established the FY 2011 TRQ for raw cane sugar at 1,231,497 STRV (1,117,195 metric tons raw value, MTRV*), the minimum to which the United States is committed under the World Trade Organization (WTO) Uruguay Round Agreements. On April 11, 2011, USDA announced a reassignment of surplus sugar under domestic cane sugar allotments of 325,000 STRV (294,835 MTRV) to imports, and increased the FY 2011 raw sugar TRQ by the same amount. Pursuant to Additional U.S. Note 5 to Chapter 17 of the U.S. Harmonized Tariff Schedule (HTS) and Section 359k of the Agricultural Adjustment Act of 1938, as amended, the Secretary of Agriculture today further increased the quantity of raw cane sugar imports of the HTS subject to the lower tier of duties during FY 2011 by 120,000 STRV (108,862 MTRV). With this increase, the overall FY 2011 raw sugar TRQ is now 1,676,497 STRV (1,520,892 MTRV). Raw cane sugar under this quota must be accompanied by a certificate for quota eligibility and may be entered under subheading 1701.11.10 of the HTS until September 30, 2011. The Office of the U.S. Trade Representative will allocate this increase among supplying countries and customs areas.

This action is being taken after a determination that additional supplies of raw cane sugar are required in the U.S. market. USDA will closely monitor stocks, consumption, imports and all sugar market and program variables on an ongoing basis, and may make further program adjustments during FY 2011 if needed.

* Conversion factor: 1 metric ton = 1.10231125 short tons.

Dated: June 16, 2011.
Michael T. Scuse,
Acting Under Secretary, Farm and Foreign Agricultural Services and Acting President, Commodity Credit Corporation.

[FR Doc. 2011-15521 Filed 6-21-11; 8:45 am]

BILLING CODE 3410-10-P